DEPARTMENT OF COMMERCE

National Oceanic and Atmospheric Administration

[RTID 0648-XE186]

Endangered Species; File No. 28119

AGENCY: National Marine Fisheries Service (NMFS), National Oceanic and Atmospheric Administration (NOAA), Commerce.

ACTION: Notice; receipt of application.

SUMMARY: Notice is hereby given that the NMFS Southwest Fisheries Science Center, 8901 La Jolla Shores Drive, La Jolla, CA 92037 (Responsible Party: Jeffrey Seminoff, Ph.D.), has applied in due form for a permit to take green (Chelonia mydas), hawksbill (Eretmochelys imbricata), loggerhead (Caretta caretta), and olive ridley (Lepidochelys olivacea) sea turtles for purposes of scientific research.

DATES: Written comments must be received on or before September 19, 2024.

ADDRESSES: The application and related documents are available for review by selecting “Records Open for Public Comment” from the “Features” box on the Applications and Permits for Protected Species home page, https://apps.nmfs.noaa.gov, and then selecting File No. 28119 from the list of available applications. These documents are also available upon written request via email to NMFS.Pr1Comments@noaa.gov.

Written comments on this application should be submitted via email to NMFS.Pr1Comments@noaa.gov. Please include File No. 28119 in the subject line of the email comment.

Those individuals requesting a public hearing should submit a written request via email to NMFS.Pr1Comments@noaa.gov. The request should set forth the specific reasons why a hearing on this application would be appropriate.

FOR FURTHER INFORMATION CONTACT: Amy Hapeman or Malcolm Mohead, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant proposes to continue long-term monitoring and ecological study of hard-shelled sea turtles off the coast of California and in international waters of the Pacific Ocean. Researchers would capture up to 150 green, 30 loggerhead, 10 olive ridley, and 5 hawksbill sea turtles by hand, tangle net, or dip net annually. Researchers would perform the following procedures on sea turtles prior to their release: temporary carapace marking; epibiota removal; photography; measurements and weight; measurement of cloacal temperature and heart rate; flipper and passive integrated transponder tagging; oxytetracycline marking; ultrasonography; biological sampling (blood; skin and scute biopsy; gastric lavage; voided urine and feces; and cloacal, oral, and nasal swabs); and attachment of a biotelemetry device or camera using adhesive or suction-cups. A subset of green sea turtles may receive up to two instruments at a time. The permit is requested for 10 years.

Dated: August 15, 2024.
Amy Sloan,
Acting Division Chief, Permits and Conservation Division, Office of Protected Resources, National Marine Fisheries Service.

[FR Doc. 2024-18656 Filed 8-19-24; 8:45 am]

BILLING CODE 3510-22-P